DEPARTMENT OF TRANSPORTATION

Federal Aviation Administration

14 CFR Part 39

[Docket No. FAA-2009-0869; Directorate Identifier 2009-CE-043-AD; Amendment 39-16090; AD 2009-24-03]

RIN 2120-AA64

Airworthiness Directives; Vulcanair S.p.A. Models P 68, P 68B, P 68C, P 68C-TC, and P 68 “OBSERVER” Airplanes

AGENCY: Federal Aviation Administration (FAA), Department of Transportation (DOT).

ACTION: Final rule.

SUMMARY: We are adopting a new airworthiness directive (AD) to supersede AD 85-08-04, which applies to certain Vulcanair S.p.A. Models P 68, P 68B, P 68C, P 68C-TC, and P 68 “OBSERVER” airplanes. AD 85-08-04 currently requires you to repetitively visually inspect the front and rear wing spars for cracks. If cracks are found, AD 85-08-04 requires you to modify the wing spars. The wing spar modification terminates the repetitive inspection AD action and may be installed before cracks develop. Since we issued AD 85-08-04, the manufacturer revised the modification kit and identified additional airplane serial numbers that require the inspection and/or modification. Consequently, this AD would retain the actions of AD 85-08-04, allow you to install the revised modification kit, and add additional serial numbers to the Applicability section. We are issuing this AD to detect and correct cracks in the front and rear wing spar, which could result in the wing separating from the airplane. This failure could lead to loss of control.

DATES: This AD becomes effective on January 4, 2010.

On January 4, 2010, the Director of the Federal Register approved the incorporation by reference of certain publications listed in this AD.

ADDRESSES: For service information identified in this AD, contact Vulcanair S.p.A, Via G. Pascoli, 7, Casoria (Naples) 80026 Italy; telephone: (+39)081.5918111; fax: (+39)081.5918172; e-mail: customerservice@vulcanair.com; Internet: http://www.vulcanair.com.

To view the AD docket, go to U.S. Department of Transportation, Docket Operations, M-30, West Building Ground Floor, Room W12-140, 1200 New Jersey Avenue, SE., Washington, DC 20590, or on the Internet at http://www.regulations.gov. The docket number is FAA-2009-0869; Directorate Identifier 2009-CE-043-AD.

FOR FURTHER INFORMATION CONTACT: Sarjapur Nagarajan, Aerospace Engineer, 901 Locust, Room 301, Kansas City, Missouri 64106; telephone: (816) 329-4145; fax: (816) 329-4090.

SUPPLEMENTARY INFORMATION:

Discussion

On September 15, 2009, we issued a proposal to amend part 39 of the Federal Aviation Regulations (14 CFR part 39) to include an AD that would apply to certain Vulcanair S.p.A. Models P 68, P 68B, P 68C, P 68C-TC, and P 68 “OBSERVER” airplanes. This proposal was published in the Federal Register as a notice of proposed rulemaking (NPRM) on September 21, 2009 (74 FR 48016). The NPRM proposed to supersede AD 85-08-04 (50 FR 14370, April 12, 1985) with a new AD that would retain the actions of AD 85-08-04, allow you to install the revised modification kit, and add additional serial numbers to the Applicability section.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• do not add any additional burden upon the public than was already proposed in the NPRM.

Costs of Compliance

We estimate that this AD affects 81 airplanes in the U.S. registry.

We estimate the following costs to do the inspection:

Labor cost | Parts cost | Total cost per airplane | Total cost on U.S. operators
24 work-hours × $80 per hour = $1,920 | Not applicable | $1,920 | $155,520

We estimate the following costs to do any necessary repair and modification that would be required based on the results of the proposed inspection. We have no way of determining the number of airplanes that may need this repair/replacement:

Labor cost | Parts cost | Total cost per airplane
100 work-hours × $80 per hour = $8,000 | $700 | $8,700

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2009-0869; Directorate Identifier 2009-CE-043-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 85-08-04, Amendment 39-5037 (50 FR 14370, April 12, 1985), and adding the following new AD:

2009-24-03 Vulcanair S.p.A.: Amendment 39-16090; Docket No. FAA-2009-0869; Directorate Identifier 2009-CE-043-AD.

Effective Date

(a) This AD becomes effective on January 4, 2010.

Affected ADs

(b) This AD supersedes AD 85-08-04, Amendment 39-5037.

Applicability

(c) This AD applies to Models P 68, P 68B, P 68C, P 68C-TC, and P 68 “OBSERVER” airplanes, serial numbers 001 through 356, that are certificated in any category.

Unsafe Condition

(d) This AD results from reports of cracks in the front and rear wing spars. We are issuing this AD to detect and correct cracks in the front and rear wing spars, which could result in the wing separating from the airplane. This failure could lead to loss of control.

Compliance

(e) For airplane serial numbers 001 through 328, to address this problem, you must do the following, unless already done:

Actions | Compliance | Procedures
(1) Visually inspect the front and rear wing spars for cracks | Initially inspect within the next 100 hours time-in-service (TIS) after May 17, 1985 (the effective date of AD 85-08-04), or upon reaching 2,100 hours total TIS, whichever occurs later. Repetitively inspect thereafter at intervals not to exceed 500 hours TIS | Follow Partenavia Costruzioni Aeronautiche S.p.A Service Bulletin No. 65 Rev. 3, dated September 30, 1985; or Partenavia Costruzioni Aeronautiche S.p.A Service Bulletin No. 65 Rev. 1, dated September 27, 1984.
(2) Repair all cracks found and modify the front and rear wing spars | Before further flight after any inspection specified in paragraph (e)(1) of this AD where cracks are found. Modification of the front and rear wing spar terminates the repetitive inspection requirements of this AD | Follow Partenavia Costruzioni Aeronautiche S.p.A Service Bulletin No. 65 Rev. 3, dated September 30, 1985; or Partenavia Costruzioni Aeronautiche S.p.A Service Bulletin No. 65 Rev. 1, dated September 27, 1984.
(3) To terminate the repetitive inspection requirements of this AD, you may modify the front and rear wing spar | Before further flight after any inspection specified in paragraph (e)(1) of this AD where cracks are not found | Follow Partenavia Costruzioni Aeronautiche S.p.A Service Bulletin No. 65 Rev. 3, dated September 30, 1985; or Partenavia Costruzioni Aeronautiche S.p.A Service Bulletin No. 65 Rev. 1, dated September 27, 1984.

(f) For airplane serial numbers 329 through 356, to address this problem, you must do the following, unless already done:

Actions | Compliance | Procedures
(1) Visually inspect the front and rear wing spars for cracks | Initially within the next 100 hours TIS after January 4, 2010 (the effective date of this AD), or upon reaching 2,100 total hours TIS, whichever occurs later. Repetitively inspect thereafter at intervals not to exceed 500 hours TIS | Follow Partenavia Costruzioni Aeronautiche S.p.A Service Bulletin No. 65 Rev. 3, dated September 30, 1985.
(2) Repair all cracks found and modify the front and rear wing spars | Before further flight after any inspection specified in paragraph (f)(1) of this AD where cracks are found. Modification of the front and rear wing spar terminates the repetitive inspection requirements of this AD | Follow Partenavia Costruzioni Aeronautiche S.p.A Service Bulletin No. 65 Rev. 3, dated September 30, 1985.
(3) To terminate the repetitive inspection requirements of this AD, you may modify the front and rear wing spar | Before further flight after any inspection specified in paragraph (e)(1) of this AD where cracks are not found | Follow Partenavia Costruzioni Aeronautiche S.p.A Service Bulletin No. 65 Rev. 3, dated September 30, 1985.

Alternative Methods of Compliance (AMOCs)

(g) The Manager, Small Airplane Directorate, FAA, has the authority to approve AMOCs for this AD, if requested using the procedures found in 14 CFR 39.19. Send information to ATTN: Sarjapur Nagarajan, Aerospace Engineer, ACE-112, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(h) AMOCs approved for AD 85-08-04 are approved for this AD.

Related Information

(i) To get copies of the service information referenced in this AD, contact Vulcanair S.p.A, Via G. Pascoli, 7, Casoria (Naples) 80026 Italy; telephone: (+39)081.5918111; fax: (+39)081.5918172; e-mail: customerservice@vulcanair.com; Internet: http://www.vulcanair.com. To view the AD docket, go to U.S. Department of Transportation, Docket Operations, M-30, West Building Ground Floor, Room W12-140, 1200 New Jersey Avenue, SE., Washington, DC 20590, or on the Internet at http://www.regulations.gov.

Material Incorporated by Reference

(j) You must use Partenavia Costruzioni Aeronautiche S.p.A Service Bulletin No. 65 Rev. 3, dated September 30, 1985; or Partenavia Costruzioni Aeronautiche S.p.A Service Bulletin No. 65 Rev. 1, dated September 27, 1984, to do the actions required by this AD, unless the AD specifies otherwise.

(1) The Director of the Federal Register approved the incorporation by reference of this service information under 5 U.S.C. 552(a) and 1 CFR part 51.

(2) For service information identified in this AD, contact Vulcanair S.p.A, Via G. Pascoli, 7, Casoria (Naples) 80026 Italy; telephone: (+39)081.5918111; fax: (+39)081.5918172; e-mail: customerservice@vulcanair.com; Internet: http://www.vulcanair.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on November 13, 2009.
Margaret Kline,
Acting Manager, Small Airplane Directorate, Aircraft Certification Service.

[FR Doc. E9-28074 Filed 11-25-09; 8:45 am]

BILLING CODE 4910-13-P